OFFICE OF PERSONNEL MANAGEMENT

Submission for OMB Emergency Review: Request for Information for Multi-State Plans

AGENCY: Office of Personnel Management.

ACTION: Emergency Clearance Notice and request for comments.

SUMMARY: Office of Personnel Management (OPM) submitted a request to the Office of Management and Budget (OMB) for emergency clearance and review for the Request for Information, Multi-State Plans. As required by the Paperwork Reduction Act of 1995, (Pub. L. 104-13, 44 U.S.C. chapter 35) as amended by the Clinger-Cohen Act (Pub. L. 104-106). The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments on this proposal for emergency review should be received within June 2, 2011. We are requesting OMB to take action within 10 calendar days from the close of this Federal Register Notice on the request for emergency review. This process is conducted in accordance with 5 CFR 1320.13.

ADDRESSES: Interested persons are invited to submit written comments on the proposed information collection to the Office of Information and Regulatory Affairs, Office of Management and Budget, 725 17th Street, NW., Washington, DC 20503, Attention: Desk Officer for the Office of Personnel Management or sent via electronic mail to oira_submission@omb.eop.gov or faxed to (202) 395-6974.

SUPPLEMENTARY INFORMATION: The Patient Protection and Affordable Care Act of 2010 (Pub. L. 111-148 and Pub. L. 111-152, collectively referred to as the Affordable Care Act or the Act), creates State-based Health Insurance Exchanges (Exchanges) and Small Business Health Options Program (SHOP) Exchanges as marketplaces for individuals and small groups to purchase health insurance. These Exchanges will offer qualified health insurance plans to eligible individuals and small employers.

Section 1334 of the Affordable Care Act directs the United States Office of Personnel Management (OPM) to contract with health insurance issuers to offer multi-State qualified health plans through Exchanges. The OPM will contract with at least two multi-State qualified health plans (Multi-State Plans) that will offer health insurance coverage for purchase to individuals and small employers through Exchanges beginning in 2014. (“State” refers to the 50 States and the District of Columbia.)

The OPM is issuing a Request for Information (RFI) to gather information related to our requirement to contract with health insurance issuers under section 1334 of the Affordable Care Act. The goal of the RFI is to better understand potential offerors' interests and capabilities. The RFI poses specific questions to aid us in the development of our procurement documents.

Agency: Office of Personnel Management.

Title: Request for Information, Multi-State Plans.

OMB Number: 3206-NEW.

Frequency: Once.

Affected Public: Potential Multi-State Plan issuer offerors, private sector.

Number of Respondents: 40.

Estimated Time per Respondent: 3 hours.

Total Burden Hours: 120 hours.

U.S. Office of Personnel Management.
John Berry,
Director.

[FR Doc. 2011-12531 Filed 5-20-11; 8:45 am]

BILLING CODE 6325-38-P